ENVIRONMENTAL PROTECTION AGENCY

[FRL 6967-4]

EPA Science Advisory Board; Notification of Public Advisory Committee Meetings

Pursuant to the Federal Advisory Committee Act, Public Law 92-463, notice is hereby given that several committees of the US EPA Science Advisory Board (SAB) will meet on the dates and times noted below. All times noted are Eastern Time. All meetings are open to the public, however, seating is limited and available on a first come basis. Important Notice: Documents that are the subject of SAB reviews are normally available from the originating EPA office and are not available from the SAB office—information concerning availability of documents from the relevant Program Office is included below.

1. Executive Committee—May 15, 2001

The US EPA Science Advisory Board's (SAB's) Executive Committee (EC) will meet on Tuesday, May 15, 2001 from 8:30 to 5:00 pm. The meeting will convene in the Great Room, 3rd Floor, US Environmental Protection Agency, Ariel Rios Federal Building, 1200 Pennsylvania Avenue, NW, Washington, DC 20004.

Purpose of the Meeting—At this meeting, the Executive Committee will review the following draft report prepared by one of its subcommittees.

Dioxin Reassessment Review Subcommittee (DRRS) of the EPA Science Advisory Board (SAB) “2,3,7,8-Tetrachlorodibenzo-Dioxin (TCDD) and Related Compounds: USEPA's draft Exposure and Human Health Reassessment—An SAB Report” (see 65 FR 60190, dated October 10, 2000 for details).

Charge to the Executive Committee—The SAB benefitted from more than 40 public comments on the Agency's dioxin reassessment document during the course of the DRRS review meeting on November 1-2, 2000. The DRRS's consideration of those public comments, as well as consideration of the Agency's reassessment document per se, are reflected in the current SAB draft report. The focus of the May 15th review will be on the following questions:

(a) Does the draft report adequately respond to the questions posed in the Charge?

(b) Are the statements and/or responses in the draft report clear?

(c) Are there any errors of fact in the draft report?

In accord with the Federal Advisory Committee Act (FACA), the public and the Agency are invited to submit written comments on these three questions. Submissions should be received in the EPA Science Advisory Board Offices by May 8, 2001. Please address all correspondence to Ms. Diana Pozun, EPA Science Advisory Board, Mail Code 1400A, U.S. Environmental Protection Agency, 1200 Pennsylvania Ave., NW., Washington DC 20460. (Telephone (202) 564-4544, FAX (202) 501-0582; or via e-mail at pozun.diana@epa.gov). Submission by e-mail is preferred and will maximize the time available for review by the Executive Committee.

Although not required by FACA, the SAB will have a brief period (a total of half an hour) available for all applicable oral public comments (maximum of five minutes per speaker). Given the broad public input received at the November 1-2, 2000 meeting, the focus of the Charge of this review, and the opportunity to address amply the Charge in writing, the Board does not anticipate extensive oral comments at the May 15th meeting. However, anyone wishing to make oral comments that focus on the three questions above, and that are not duplicative of their written comments or earlier oral comments, should discuss the matter with the Designated Federal Officer for the Executive Committee, Dr. Donald G. Barnes (see contact information below) no later than noon on May 8, 2001.

Availability of Materials—The draft meeting agenda and drafts of the report that will be reviewed at the meeting will be available to the public on the SAB website (http://www.epa.gov/sab) by close-of-business on April 30, 2001. Information concerning the draft report and other relevant links can be found under the “New” button.

For Further Information—Any member of the public wishing further information concerning this meeting should contact Dr. Donald G. Barnes, Designated Federal Officer (DFO) for the Executive Committee at US EPA Science Advisory Board (1400A), 1200 Pennsylvania Avenue NW., Washington, DC 20460; phone (202) 564-4533; fax (202) 501-0323; or via e-mail at barnes.don@epa.gov.

2—Environmental Economics Advisory Committee (EEAC)—May 25, 2001

The Environmental Economics Advisory Committee (EEAC) of the Science Advisory Board (SAB) will meet on May 25, 2001 at the Hilton Alexandria Old Town, 1767 King Street, Alexandria, Virginia, 22314; telephone (703) 837-0440. The meeting will begin at 9:00 am and end no later than 3:00 pm.

Purpose of the Meeting—The purpose of the Environmental Economics Advisory Committee meeting is to: (a) Consult with EPA representatives on the agency's planned activities to develop analytical approaches for the implementation of Executive Order 13141 entitled Environmental Reviews of Trade Agreements; (b) to discuss EPA's letter noting its intention to work across various Agency programs to determine whether it should request that EPA and the Science Advisory Board conduct a joint workshop on ways to estimate the benefits from premature mortality risk reductions that are predicted to result from environmental regulations; and (c) to receive a briefing by EPA representatives on the Agency's economic benefit recapture approach.

Background Information—(a) Trade and the Environment: The EEAC will engage in a Consultation with representatives of the US EPA National Center for Environmental Economics (EPA/NCEE) on trade and the environment. Executive Order 13141 (November 16, 1999), commits the U.S. government to assess the domestic environmental impacts of trade agreements at an early stage in their negotiations. The order also calls for an assessment of trans-boundary and global environmental impacts.

EPA/NCEE will be working with the U.S. Trade Representative (USTR) and the International Trade Commission (ITC) to comply with this order. Initially, they will analyze the Free Trade Area of the Americas (FTAA) which would expand the North American Free Trade Agreement (NAFTA) to include the rest of the Western Hemisphere. EPA/NCEE is also developing a Trade and Environment Assessment Model (TEAM) that will estimate the direct/proximate environmental impacts of the economic changes estimated by the ITC. EPA will pursue further analysis of changes in ambient concentrations, human health and welfare impacts as warranted.

EPA/NCEE is also pursuing related research, including an assessment of the relationship between economic growth and environmental quality, and the relationship between pre-existing distortions, trade liberalization, and environmental quality.

EPA/NCEE will brief the EEAC on: (1) EPA/NCEE's role in the FTAA analysis, (2) the TEAM structure and data sources, (3) their proposed methodologies (and the literature on trade and environment they have identified in support of these methods), (4) criteria for follow-on analyses, and (5) some related research areas.

A “consultation” is a means of conferring, as a group of knowledgeable individuals, in public session with the Agency on a technical matter, before the Agency has begun substantive work on that issue. The goal is to leaven EPA's thinking by brainstorming a variety of approaches to the problem very early in the development process. There is no attempt or intent to express an SAB consensus or to generate a formal SAB position. The Board, via a brief letter, simply notifies the Administrator that a Consultation has taken place.

The Subcommittee will not attempt to develop a consensus, however, the agency is interested in obtaining comments from individual members on whether NCEE is considering an analytically sound approach for assessing the domestic environmental impacts of trade agreements; the soundness of their modeling approach; and whether data sources proposed for emission factors are the best available. The Agency also is interested in individual's comments on whether NCEE is considering an appropriate program of research germane to the relationship between trade (and economic integration more generally) and the environment.

While no written report will be prepared of the Subcommittee's thoughts, individual members may provide their comments in writing to the DFO who will include these with the minutes of the meeting.

(b) The Benefits of Premature Morality Risk Reduction: In a December 20, 2000 letter to Dr. Robert Stavins, Chair of the EPA SAB Environmental Economics Advisory Committee, the EPA Assistant Administrator for Air and Radiation, noted his intention “* * * to work with my partner offices in EPA to propose to the SAB Executive Committee the organization of a workshop on pollution-related premature mortality valuation styled after the successful joint EPA/SAB workshop series on hazardous air pollutant benefits estimation.” The primary focus of key objectives of such a workshop would be to: (1) Develop research needs and priorities for improving valuation procedures for mortality risk reductions, (2) develop concrete, practical recommendations for best practice interpretations and applications of existing literature on this topic, and (3) develop recommendations regarding practical procedures to pursue regarding ongoing evaluation and assimilation of new and emerging literature on this topic.

Though the letter discussed above was not a firm commitment to conduct such a workshop, the research that might be identified by a workshop, nor the reevaluation of EPA's processes for premature mortality valuation, the letter did provide advance notice to the EEAC Chair of the Assistant Administrator's assignment of management oversight for that office's efforts to work within EPA to explore whether such a proposal should be made to the SAB Executive Committee.

The focus of this effort would be how one assigns a value to the decrease in the risk of premature mortality that might be gained from environmental regulations. The EPA Guidelines for Preparing Economic Analyses provide background information on development of a value of statistical life (VSL) to estimate this value. Other EPA analyses and papers contain background information on and develop estimates of the benefits to be gained in regard to fatal risk reduction actions. Though there is much in the technical and popular literature, as well as in regulatory dockets about the benefits estimated to be associated with reduced mortality risk, the topic remains one of significant uncertainty and controversy. Efforts to improve on the methods to develop such estimates and to identify critical knowledge gaps, thus research needs, for improved methods could be instrumental in moving the state-of-science forward in this area. The EEAC will be briefed by EPA representatives to clarify EPA's needs and to explore the EEAC members' concerns, expectations, and desires for interacting with EPA in such a workshop should that proposal be made by EPA.

(c) Calculating Economic Benefits from Failure to Comply with Environmental Laws: EPA representatives will brief the Committee on the approach it takes to calculate the economic benefit from noncompliance with environmental laws. The interaction at this meeting will not constitute a review of those procedures, rather, it will be for the purpose of introducing the issue to Committee members.

Since 1984, EPA's policy has been to recapture a violator's economic benefit from violating the law as part of a civil penalty. This policy recognizes three types of economic benefit: (1) Benefit from delaying pollution control expenditures; (2) benefit from avoiding pollution control expenditures; and (3) benefit that accrues from actions other than the simple delay and/or avoidance of pollution control expenditures, a category that is broadly termed, “illegal competitive advantage.” The Agency developed a computer model, BEN, to assist its enforcement personnel in calculating the first two types of benefits (delaying and avoiding pollution control expenditures) for settlement purposes. BEN essentially performs net present value adjustments. It does not calculate the benefit from an illegal competitive advantage.

The fundamental economic methodology underlying the BEN model was peer reviewed twice: Once in 1988 and again in 1991. The Agency made some fundamental changes to the model in 1992 in response to these peer reviews. Since that time, EPA has made some further changes to the model, but only to update some of the model's financial values and to move the model to the Windows operating environment. The Agency initiated an informal public comment process on the entire benefit recapture approach in the Federal Register (61 FR 53025-53030, October 9, 1996). The Agency response to the comments received, and its proposed revisions to the model, were published in a second Federal Register Notice (64 FR 32948-32972, June 18, 1999) that also requested comments on the proposed changes. The Senate Report that accompanied EPA's FY 2001 budget directed the Agency to peer review the BEN model, including the illegal competitive advantage benefit approach, prior to finalizing its revisions.

Availability of Materials—Copies of the background materials provided by the Agency for these discussions can be obtained from the following: (a) Trade and the Environment: Dr. Brett Snyder, US EPA NCEE, telephone number (202) 564-4558, snyder.brett@epa.gov; (b) The Benefits of Premature Mortality Risk Reduction: Mr. Thomas Miller, Designated Federal Officer, US EPA Science Advisory Board; telephone (202) 564-4558; fax (202) 501-0582; or via e-mail at miller.tom@epa.gov; and (c) Calculating Economic Benefits from Failure to Comply with environmental Laws: Mr. Jonathan Libber, US EPA Office of Enforcement and Compliance Assurance, (telephone (202) 564-6102; or via e-mail at libber.jonathan@epa.gov.

For Further Information—Any member of the public wishing further information concerning this meeting or wishing to submit brief oral comments (10 minutes or less) must contact Mr. Thomas Miller, Designated Federal Officer, Science Advisory Board (1400A), U.S. Environmental Protection Agency, 1200 Pennsylvania Avenue, NW, Washington, DC 20460; telephone (202) 564-4558; fax (202) 501-0582; or via e-mail at miller.tom@epa.gov. Requests for oral comments must be in writing (e-mail, fax or mail) and received by Mr. Miller no later than noon Eastern Standard Time on Monday, May 21, 2001.

3—Drinking Water Committee (DWC) Meeting—June 12-13, 2001

The Drinking Water Committee of the US EPA Science Advisory Board (SAB), will meet on June 12-13, 2001 at the Governor's House Hotel, 1615 Rhode Island Ave., NW, Washington, DC, 20036. The meeting will begin at 8:30 a.m. on June 12 and adjourn no later than 5:00 p.m. on June 13, 2001.

A follow up teleconference meeting will be scheduled and announced (if necessary) at a later date to address any remaining issues that might arise as a result of the June 12-13, 2001 discussions. That meeting would be coordinated through a conference call connection in room 6013 Ariel Rios North (6th Floor), U.S. Environmental Protection Agency, 1200 Pennsylvania Avenue NW, Washington, DC. Additional information about this conference call can be obtained by calling Ms. Wanda Fields at (202) 564-4539, or via e-mail at: fields.wanda@epa.gov following the June 12-13, 2001 meeting.

Purpose of the Meeting—The Drinking Water Committee will continue its review of EPA's draft research plan in support of the Safe Drinking Water Act's Contaminant Candidate Listing (CCL) program and engage in a Consultation with the Agency on its Microbiological Risk Assessment Framework.

Background—(a) Research Plan for Candidate Contaminant Listing (CCL)—The Safe Drinking Water Act (SDWA), as amended in 1996, requires the EPA to establish a list of unregulated microbiological and chemical contaminants to aid in priority setting for the Agency's drinking water program. A new list must be published every five years. The first Contaminant Candidate List (CCL1) was proposed by EPA in 1997 and was then finalized in 1998, following extensive consultation with stakeholders.

The Agency must select five or more contaminants from CCL1 and determine, by August 2001, whether they should be regulated. To support these decisions, the Agency will have to evaluate when and where these contaminants occur, the extent of exposure and risk to public health, and determine if cost effective control methods are available.

EPA has sorted CCL1 contaminants into categories depending upon whether they need additional research (Research or Occurrence Priorities categories) or have sufficient data for the evaluation of exposure and risk to public health, and therefore enough data to support a drinking water standard (Regulatory Determination Priorities category). The contaminants considered for selection and regulatory determination by August 2001 will be drawn from the Regulatory Determination category and are not duplicated under the Research or Occurrence Priorities categories.

A Research Plan has been prepared to describe the nature, timing and priority of research needed in order to meet the CCL1 information needs of the Agency. The plan focuses on contaminants that are on CCL1. Nevertheless, it is important for some research to be conducted on emerging pathogens and chemicals to ensure that any future CCL includes contaminants that are of potential public health concern. The SAB, through its DWC, has been asked to review the technical adequacy of the decision process used to develop the plan.

The DWC began its discussion of the CCL Research Plan at its meeting on August 8-9, 2000 (for further information, see 65 FR 44051-44053). The charge questions were discussed by panelists and as a result of the discussions the Committee prepared an Advisory to EPA noting its preliminary advice and the need for additional information (An SAB Advisory on EPA's Draft Contaminant Candidate List (CCL) Research Plan; EPA-SAB-DWC-ADV-00-007—copies are available at www.epa.gov/sab under the REPORTS heading). The discussion at the June 12-13, 2001 DWC meeting will focus on the revised Research Plan.

Charge to the Committee for the CCL Research Plan—EPA asks: (1) Whether the decision process, as described in Figure 2 of the CCL Research Plan, has a high probability for providing appropriate information for the Office of Water's regulatory determinations concerning CCL contaminants; and (2) whether the Science Advisory Board has any suggestions for improving the integrated planning of research on unregulated contaminants.

(b) Microbiological Risk Assessment Framework—The EPA developed a framework for microbial risk assessment in conjunction with the International Life Sciences Institute's Risk Science Institute (ILSI RSI) in a series of workshops held beginning in 1995. An initial workshop resulted in a conceptual framework for assessing human disease risk from exposure to waterborne pathogens. That framework was then tested by conducting two risk assessments by a group of contractors who worked in accordance with the framework's guidance. These assessments were discussed in a second workshop during May 1999 and the framework was revised according to a series of consensus-based recommendations that came from that workshop. The Agency now intends to move forward with the development of a formal Microbiological Risk Assessment Guidance document.

Prior to developing the above discussed guidance, EPA has asked the SAB to engage in a consultation with it to help it begin its original thinking on a number of issues. These issues are noted in the Charge below.

A “consultation” is a means of conferring, as a group of knowledgeable individuals, in public session with the Agency on a technical matter, before the Agency has begun substantive work on that issue. The goal is to leaven EPA's thinking by brainstorming a variety of approaches to the problem very early in the development process. There is no attempt or intent to express an SAB consensus or to generate a formal SAB position. The Board, via a brief letter, simply notifies the Administrator that a Consultation has taken place. While no written report will be prepared of the Subcommittee's thoughts, individual members may provide their comments in writing to the DFO who will include these with the minutes of the meeting.

Charge to the Committee for the Microbial Risk Assessment Framework—EPA asks the SAB to consider and to discuss with it: (1) Whether the current framework includes all the essential components and a logical flow needed to allow microbial risk assessments to be conducted for all waterborne pathogens and water media (waste waters, drinking waters and ambient waters); (2) any apparent missing components that would be needed to properly conduct risk assessments, as well as why the additional components would be needed; (3) any tools and methods (e.g., dose response and susceptibility models dealing with uncertainty, and data gaps, etc.) that can be used in the risk analysis portion of the methodology which would assist risk assessors who would be using this guidance, and (4) suitability of the framework for establishment of formal guidelines for microbiological risk assessment.

Availability of Review Materials—(1) CCL Research Plan: Information on the Agency's CCL Research Plan can be obtained by contacting Dr. Robert Clark, US EPA, National Risk Management Research Laboratory, Cincinnati, OH by telephone at (513) 569-7201 or by e-mail at clark.robertm@epa.gov. (2) Microbiological Risk Assessment Framework: Additional information on the framework for microbial risk assessment can be obtained from Dr. Stephen Schaub, US EPA, Office of Water, Office of Science and Technology, Washington, DC by telephone at (202) 260-7591 or by e-mail at schaup.stephen@epa.gov.

For Further Information—Any member of the public wishing further information concerning this meeting or wishing to submit brief oral comments (10 minutes or less) must contact Thomas O. Miller, Designated Federal Officer, Science Advisory Board (1400A), U.S. Environmental Protection Agency, 1200 Pennsylvania Avenue, NW., Washington, DC 20460; telephone (202) 564-4558; FAX (202) 501-0582; or via e-mail at miller.tom@epa.gov. Requests for oral comments must be in writing (e-mail, fax or mail) and received by Mr. Miller no later than noon Eastern Time on Tuesday, June 5, 2001.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until two days after the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information

Additional information concerning the Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access

Individuals requiring special accommodation at this meeting, including wheelchair access to the conference room, should contact the appropriate DFO at least five business days prior to the meeting so that appropriate arrangements can be made.

Dated: April 6, 2001.
John R. Fowle, III,
Acting Staff Director, Science Advisory Board.

[FR Doc. 01-9487 Filed 4-16-01; 8:45 am]

BILLING CODE 6560-50-P